DEPARTMENT OF TRANSPORTATION

Federal Motor Carrier Safety Administration

[Docket No. FMCSA 2015-0255]

Agency Information Collection Activities; Extension of a Currently-Approved Information Collection Request: Transportation of Household Goods; Consumer Protection

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. The FMCSA requests approval to extend an ICR titled, “Transportation of Household Goods; Consumer Protection.” The information collected will be used to help regulate motor carriers transporting household goods (HHG) for individual shippers. FMCSA invites public comment on the ICR. On September 21, 2015, FMCSA published a Federal Register notice allowing for a 60-day comment period on this ICR. The agency received no comments in response to that notice.

DATES: Please send your comments to this notice by March 28, 2016. OMB must receive your comments by this date to act quickly on the ICR.

ADDRESSES: All comments should reference Federal Docket Management System (FDMS) Docket Number FMCSA-2015-0255. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Mr. Kenneth Rodgers, Chief, Commercial Enforcement and Investigations Division, Federal Motor Carrier Safety Administration, West Building 6th Floor, 1200 New Jersey Avenue SE., Washington, DC 20590. Telephone: 202-366-0073; email Kenneth.rodgers@dot.gov. Office hours are from 9:00 a.m. to 5:00 p.m., Monday through Friday, except Federal Holidays.

SUPPLEMENTARY INFORMATION:

Title: Transportation of Household Goods; Consumer Protection.

OMB Control Number: 2126-0025.

Type of Request: Extension of a currently-approved information collection.

Respondents: Household goods movers and consumers.

Estimated Number of Respondents: 7,500 respondents [4,900 household goods movers + 2,600 consumers = 7,500].

Estimated Time per Response: Varies from 5 minutes to display assigned U.S. DOT number in created advertisement to 12.5 minutes to distribute consumer publication, and 10 minutes to complete an online household goods consumer complaint.

Expiration Date: April 30, 2016.

Frequency of Response: Other (Once).

Estimated Total Annual Burden: 5,224,800 hours [Informational documents provided to prospective shippers at 29,300 hours + Written Cost estimates for prospective shippers at 4,377,450 hours + Service orders, bills of lading at 763,100 hours + In-transit service notifications at 21,500 hours + Complaint and inquiry records including establishing records system at 33,050 hours + Household Goods—Consumer Complaint at 400 hours = 5,224,800].

Background: The Motor Carrier Safety Improvement Act of 1999 (MCSIA) (Pub. L. 106-159, 113 Stat. 1748, Dec. 9, 1999) authorized the Secretary of Transportation (Secretary) to regulate household goods carriers engaged in interstate operations for individual shippers. In earlier legislation, Congress abolished the former Interstate Commerce Commission and transferred the Commission's jurisdiction over household goods transportation to the U.S. Department of Transportation (DOT) (ICC Termination Act of 1995, Pub. L. 104-88, 109 Stat. 803, Dec. 29 1995). Prior to FMCSA's establishment, the Secretary delegated this household goods jurisdiction to the Federal Highway Administration, FMCSA's predecessor organization within DOT.

The FMCSA has authority to regulate the overall commercial operations of the household goods industry under 49 U.S.C. 14104, “Household goods carrier operations.” Under § 14104(a)(1), paperwork required of household goods carrier must be minimized to the maximum extent feasible consistent with the protection of individual shippers. This ICR includes the information collection requirements contained in title 49 CFR part 375, “Transportation of Household Goods in Interstate Commerce; Consumer Protection Regulations.” The information collected encompasses that which is generated, maintained, retained, disclosed, and provided to, or for, the agency under 49 CFR part 375.

Sections 4202 through 4216 of the Safe, Accountable, Flexible, Efficient Transportation Equity Act: A Legacy for Users (Pub. L. 109-59, 119 Stat. 1144, Aug. 10, 2005) (SAFETEA-LU) amended various provisions of existing law regarding household goods transportation. It specifically addressed: definitions (section 4202); payment of rates (section 4203); registration requirements for household goods motor carriers (section 4204); carrier operations (section 4205); enforcement of regulations (section 4206); liability of carriers under receipts and bills of lading (section 4207); arbitration requirements (section 4208); civil penalties for brokers and unauthorized transportation (section 4209); penalties for holding goods hostage (section 4210); consumer handbook (section 4211); release of broker information (section 4212); working group for Federal-State relations (section 4213); consumer complaint information (section 4214); review of liability of carriers (section 4215); and application of State laws (section 4216). The FMCSA regulations that set forth Federal requirements for movers that provide interstate transportation of household goods are found in 49 CFR part 375, “Transportation of Household Goods; Consumer Protection Regulation.”

On July 16, 2012, FMCSA published a Direct Final Rule titled, “Transportation of Household Goods in Interstate Commerce; Consumer Protection Regulations: Household Goods Motor Carrier Record Retention Requirements,” (77 FR 41699). The rule amended the regulations governing the period during which HHG motor carriers must retain documentation of an individual shipper's waiver of receipt of printed copies of consumer protection materials. This change harmonized the retention period with other document retention requirements applicable to HHG motor carriers. FMCSA also amended the regulations to clarify that a HHG motor carrier is not required to retain waiver documentation from any individual shippers for whom the carrier does not actually provide services.

Public Comments Invited: FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued under the authority delegated in 49 CFR 1.87 on: February 17, 2016.
G. Kelly Regal,
Associate Administrator, Office of Research and Information Technology.

[FR Doc. 2016-04041 Filed 2-24-16; 8:45 am]

BILLING CODE 4910-EX-P